DEPARTMENT OF HEALTH AND HUMAN SERVICES

National Institutes of Health

National Cancer Institute; Notice of Meeting

Pursuant to section 1009 of the Federal Advisory Committee Act, as amended, notice is hereby given of a meeting of the President's Cancer Panel.

The meeting will be held as a virtual meeting and open to the public. Individuals who plan to view the virtual meeting and need special assistance or other reasonable accommodations to view the meeting, should notify the Contact Person listed below in advance of the meeting. The meeting can be found using the links below.

Name of Committee: President's Cancer Panel.

Date: November 2, 2023.

Time: 1:00 p.m. to 5:30 p.m.

Agenda: Reducing Cancer Care Inequities: Leveraging Technology to Enhance Patient Navigation—Technology Opportunities for Patient Navigation.

Place: National Institutes of Health, 31 Center Drive, Building 31, Room 11A48, Rockville, MD 20850 (Virtual Meeting).

Access to Meeting: https://nci.rev.vbrick.com/#/webcasts/technologyopportunitiesforpatientnavigationnov2.

Name of Committee: President's Cancer Panel.

Date: November 3, 2023.

Time: 1:00 p.m. to 5:30 p.m.

Agenda: Reducing Cancer Care Inequities: Leveraging Technology to Enhance Patient Navigation—Technology Opportunities for Patient Navigation.

Place: National Institutes of Health, 31 Center Drive, Building 31, Room 11A48, Rockville, MD 20850 (Virtual Meeting).

Access to Meeting: https://nci.rev.vbrick.com/#/webcasts/technologyopportunitiesforpatientnavigationnov3.

Contact Person: Maureen R. Johnson, Ph.D., Executive Secretary, President's Cancer Panel; Special Assistant to the Director, National Cancer Institute, NIH, 31 Center Drive, Room 11A48 MSC 2590, Bethesda, MD 20892, 240-781-3327, johnsonr@mail.nih.gov.

Any interested person may file written comments with the committee by forwarding the statement to the Contact Person listed on this notice. The statement should include the name, address, telephone number and when applicable, the business or professional affiliation of the interested person.

Information is also available on the Institute's/Center's home page: http://deainfo.nci.nih.gov/advisory/pcp/index.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: August 14, 2023.
Melanie J. Pantoja,
Program Analyst, Office of Federal Advisory Committee Policy.

[FR Doc. 2023-17764 Filed 8-17-23; 8:45 am]

BILLING CODE 4140-01-P